DEPARTMENT OF HEALTH AND HUMAN SERVICES

Centers for Medicare & Medicaid Services

[CMS-1390-N2]

RIN 0938-AP15

Medicare Program; Hospital Inpatient Prospective Payment Systems and Fiscal Year 2009 Rates: Fiscal Year 2009 Wage Index Changes Following Implementation of Section 124 of the Medicare Improvement for Patients and Providers Act of 2008

AGENCY: Centers for Medicare & Medicaid Services (CMS), HHS.

ACTION: Notice.

SUMMARY: This notice contains fiscal year (FY) 2009 revised final wage indices and hospital reclassifications for 27 hospitals. These revised final wage indices and hospital reclassifications were made according to special procedural rules set forth in the FY 2009 hospital inpatient prospective payment systems final rule (73 FR 48588-9).

DATES: Effective Date: The provisions of this notice are effective on December 3, 2008,

Applicability Date: The final wage indices and hospital reclassifications are applicable for discharges beginning October 1, 2008.

FOR FURTHER INFORMATION CONTACT: Tzvi Hefter, (410) 786-4487.

SUPPLEMENTARY INFORMATION:

I. Background

On July 15, 2008 the Medicare Improvement for Patients and Providers Act of 2008 (MIPPA) (Pub. L. 110-275) was enacted. Section 124 of Public Law 110-275 extends through FY 2009 wage index reclassifications under section 508 of the Medicare Prescription Drug, Improvement, and Modernization Act of 2003 (MMA) (Pub. L. 108-173) and certain special exceptions (for example, those special exceptions contained in the final rule promulgated in the August 11, 2004 Federal Register (69 FR 49105 and 49107) and extended under section 117 of the Medicare, Medicaid, and SCHIP Extension Act of 2007 (MMSEA) (Pub. L. 110-173)). Because of the timing of the enactment of Public Law 110-275, we were not able to recompute the fiscal year (FY) 2009 wage index values for any hospital reclassified under section 508 and special exception hospitals in time for inclusion in the FY 2009 hospital inpatient prospective payment system final rule published in the August 19, 2008 Federal Register (73 FR 48434) (hereinafter referred to as the FY 2009 IPPS final rule). Instead, we stated that we would issue the final FY 2009 wage index values and other related tables, in a separate Federal Register notice published subsequent to the final rule.

In the October 3, 2008 Federal Register (73 FR 57888), we published the FY 2009 IPPS final notice including the final wage indices and geographic reclassifications. The final notice reflects the reclassification withdrawal and termination decisions we made on behalf of hospitals in accordance with special procedural rules explained in the FY 2009 IPPS final rule (73 FR 48588).

In accordance with such rules, hospitals had until October 20, 2008 to notify us if they wished to revise the decision that we made on their behalf. We received requests from 31 hospitals. Of these hospitals, three hospitals were ineligible for a revision because the hospitals were not reclassified to or located in areas containing hospitals whose reclassifications or special exceptions were extended by section 124 of Public Law 110-275. A fourth hospital was ineligible because we did not make a decision on behalf of the hospital.

II. Provisions of This Notice

This notice provides the revisions to the final wage index values and hospital reclassifications for 27 hospitals based on hospitals' requests. As stated in the FY 2009 IPPS final rule (73 FR 48588) and the October 3, 2008 notice (73 FR 57888), we did not further recalculate the wage indices (including any rural floors or imputed rural floors) or standardized amounts based on the revisions for these 27 hospitals. Changes based on hospitals' requests affect the data presented in Tables 2, 4J, 9A, and 9B of the October 3, 2008 notice. Therefore, this notice provides the revisions to those tables for the specified providers.

A. Wage Index Revisions for Table 2

The wage data for the listed providers are revised as follows:

Table 2—Hospital Case-Mix Indexes for Discharges Occurring in Federal Fiscal Year 2007; Hospital Wage Indexes for Federal Fiscal Year 2009; Hospital Average Hourly Wages for Federal Fiscal Years 2007 (2003 Wage Data), 2008 (2004 Wage Data), and 2009 (2005 Wage Data); and 3-Year Average of Hospital Average Hourly Wages
Provider No. | Case mix index | FY 2009 wage index | Average hourly wage FY 2007 | Average hourly wage FY 2008 | Average hourly wage FY 2009 | Average hourly wage (3 years)
050069 | 1.7315 | 1.2032 | 34.6353 | 35.3850 | 38.1339 | 36.1121
050168 | 1.5718 | 1.2032 | 37.9784 | 40.5973 | 40.8362 | 39.8630
050173 | 1.3439 | 1.2032 | 29.0576 | 31.6717 | 32.3265 | 30.9929
050193 | 1.2326 | 1.2032 | 33.9520 | 29.0623 | 36.7240 | 32.9059
050224 | 1.6646 | 1.2032 | 32.5010 | 35.7280 | 37.3442 | 35.2849
050226 | 1.5109 | 1.2032 | 32.4411 | 35.4597 | 36.5354 | 34.8258
050230 | 1.5465 | 1.2032 | 34.0600 | 35.8490 | 38.8901 | 36.2987
050348 | 1.7778 | 1.2032 | 31.5156 | 32.7107 | 33.5276 | 32.6288
050426 | 1.4602 | 1.2032 | 33.2031 | 34.9855 | 37.6505 | 35.2298
050526 | 1.1838 | 1.2032 | 28.1997 | 33.3964 | 35.5457 | 32.2794
050543 | 0.7528 | 1.2032 | 29.4443 | 24.4913 | 32.8367 | 28.6013
050548 | 0.7102 | 1.2032 | 39.2234 | 41.1075 | * | 40.1570
050551 | 1.3450 | 1.2032 | 34.0467 | 37.2506 | 37.6223 | 36.3787
050567 | 1.5114 | 1.2032 | 35.7063 | 37.6384 | 39.0114 | 37.5242
050570 | 1.5522 | 1.2032 | 34.5161 | 38.4373 | 40.6761 | 37.8616
050580 | 1.1501 | 1.2032 | 31.5806 | 34.1531 | 35.0966 | 33.6235
050589 | 1.2415 | 1.2032 | 34.5100 | 37.6886 | 37.2056 | 36.5102
050603 | 1.4514 | 1.2032 | 34.0275 | 35.0279 | 35.4809 | 34.9113
050609 | 1.3266 | 1.2032 | 41.7208 | 39.7397 | 43.4555 | 41.6214
050678 | 1.3259 | 1.2032 | 32.4473 | 33.7633 | 35.8411 | 34.1151
050693 | 1.3935 | 1.2032 | 34.5797 | 39.6838 | 42.8266 | 38.9562
050720 | 0.9629 | 1.2032 | 29.4726 | 30.3595 | 32.1173 | 30.5950
050744 | 1.7431 | 1.2032 | * | * | 48.4951 | 48.4951
050745 | 1.3420 | 1.2032 | * | * | 42.5523 | 42.5523
050746 | 1.8199 | 1.2032 | * | * | 43.2015 | 43.2015
050747 | 1.5410 | 1.2032 | * | * | 44.5887 | 44.5887
250078 | 1.5862 | 0.8418 | 22.1243 | 22.8430 | 23.9598 | 22.9835

B. Revisions to Table 4J

The entry in the second column titled, “Reclassified for FY 2009”, for the following listed providers has been revised to include an asterisk to indicate that the providers have been reclassified to CBSA 31084 Los Angeles-Long Beach-Glendale, CA for FY 2009; and, therefore, are ineligible to receive an outmigration adjustment for FY 2009:

Table 4J—Out-migration Adjustment—FY 2009
Provider No. | Reclassified for FY 2009 | Out- migration adjustment | Qualifying county name | County code
050069 | * | 0.0013 | Orange | 05400
050168 | * | 0.0013 | Orange | 05400
050173 | * | 0.0013 | Orange | 05400
050193 | * | 0.0013 | Orange | 05400
050224 | * | 0.0013 | Orange | 05400
050226 | * | 0.0013 | Orange | 05400
050230 | * | 0.0013 | Orange | 05400
050348 | * | 0.0013 | Orange | 05400
050426 | * | 0.0013 | Orange | 05400
050526 | * | 0.0013 | Orange | 05400
050543 | * | 0.0013 | Orange | 05400
050548 | * | 0.0013 | Orange | 05400
050551 | * | 0.0013 | Orange | 05400
050567 | * | 0.0013 | Orange | 05400
050570 | * | 0.0013 | Orange | 05400
050580 | * | 0.0013 | Orange | 05400
050589 | * | 0.0013 | Orange | 05400
050603 | * | 0.0013 | Orange | 05400
050609 | * | 0.0013 | Orange | 05400
050678 | * | 0.0013 | Orange | 05400
050693 | * | 0.0013 | Orange | 05400
050720 | * | 0.0013 | Orange | 05400
050744 | * | 0.0013 | Orange | 05400
050745 | * | 0.0013 | Orange | 05400
050746 | * | 0.0013 | Orange | 05400
050747 | * | 0.0013 | Orange | 05400

C. Revisions to Table 9A

The geographic reclassification data for listed providers have been revised as specified in the following table:

Table 9A—Hospital Reclassifications and Redesignations—FY 2009
Provider No. | Geographic CBSA | Reclassified CBSA | LUGAR
050069 | 42044 | 31084
050168 | 42044 | 31084
050173 | 42044 | 31084
050193 | 42044 | 31084
050224 | 42044 | 31084
050226 | 42044 | 31084
050230 | 42044 | 31084
050348 | 42044 | 31084
050426 | 42044 | 31084
050526 | 42044 | 31084
050543 | 42044 | 31084
050548 | 42044 | 31084
050551 | 42044 | 31084
050567 | 42044 | 31084
050570 | 42044 | 31084
050580 | 42044 | 31084
050589 | 42044 | 31084
050603 | 42044 | 31084
050609 | 42044 | 31084
050678 | 42044 | 31084
050693 | 42044 | 31084
050720 | 42044 | 31084
050744 | 42044 | 31084
050745 | 42044 | 31084
050746 | 42044 | 31084
050747 | 42044 | 31084
250078 | 25620 | 25060

D. Revisions to Table 9B

In Table 9B, entitled “Hospital Reclassifications and Redesignations by Individual Hospital under Section 508 of Public Law 108-173 and Special Exceptions Wage Index Assignments—FY 2009”, provider 25-0078 is removed because the provider is now listed in Table 9A (see section II.C. of this notice) as reclassified to CBSA 25060, Gulfport-Biloxi, MS.

III. Regulatory Impact Statement

We do not consider this notice to constitute a rule under 5 U.S.C. 553(b). The notice announces wage index values and reclassifications based upon policies already adopted in the FY 2009 IPPS final rule. Thus, we do not believe that reviews under Executive Order 12866 on Regulatory Planning and Review (September 30, 1993, as further amended), the Regulatory Flexibility Act (RFA) (September 19, 1980, Pub. L. 96-354), section 1102(b) of the Social Security Act, section 202 of the Unfunded Mandates Reform Act of 1995 (March 22, 1995; Pub. L. 104-4), Executive Order 13132 on Federalism (August 4, 1999) and the Congressional Review Act (5 U.S.C. 804(2)) are required. Nevertheless, we have examined the impact of this notice under the aforementioned authorities.

Executive Order 12866 (as amended by Executive Orders 13258 and 13422) directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any one year). We estimate that FY 2009 IPPS payments will increase approximately $3 million based on the changes included in this notice. Therefore, we note that not only does this notice not constitute a substantive rule, but it also does not reach the economic threshold and thus is not considered a major rule.

The RFA requires agencies to analyze options for regulatory relief of small businesses. For purposes of the RFA, small entities include small businesses, nonprofit organizations, and small governmental jurisdictions. Most hospitals and most other providers and suppliers are small entities, either by nonprofit status or by having revenues of $7.0 million to $34.5 million in any one year. Individuals and States are not included in the definition of a small entity. We are not preparing an analysis for the RFA because the notice is not a substantive rule, and we have determined, and the Secretary certifies, that this notice will not have a significant economic impact on a substantial number of small entities.

In addition, section 1102(b) of the Act requires us to prepare a regulatory impact analysis if a rule may have a significant impact on the operations of a substantial number of small rural hospitals. This analysis must conform to the provisions of section 604 of the RFA. For purposes of section 1102(b) of the Act, we define a small rural hospital as a hospital that is located outside of a Metropolitan Statistical Area for Medicare payment regulations and has fewer than 100 beds. We are not preparing an analysis for section 1102(b) of the Act because we have determined, and the Secretary certifies, that this notice will not have a significant impact on the operations of a substantial number of small rural hospitals.

Section 202 of the Unfunded Mandates Reform Act of 1995 also requires that agencies assess anticipated costs and benefits before issuing any rule whose mandates require spending in any one year of $100 million in 1995 dollars, updated annually for inflation. In 2008, that threshold is approximately $130 million. This notice will have no consequential effect on State, local, or tribal governments or on the private sector.

Executive Order 13132 establishes certain requirements that an agency must meet when it promulgates a proposed rule (and subsequent final rule) that imposes substantial direct requirement costs on State and local governments, preempts State law, or otherwise has Federalism implications. Since this notice does not impose any costs on State or local governments, the requirements of Executive Order 13132 are not applicable.

Authority: (Catalog of Federal Domestic Assistance Program No. 93.773, Medicare—Hospital Insurance; and Program No. 93.774, Medicare—Supplementary Medical Insurance Program).

Dated: November 20, 2008.
Kerry Weems,
Acting Administrator, Centers for Medicare & Medicaid Services.
Approved: November 25, 2008.
Michael O. Leavitt,
Secretary.

[FR Doc. E8-28619 Filed 12-2-08; 8:45 am]

BILLING CODE 4120-01-P